DEPARTMENT OF HEALTH AND HUMAN SERVICES

National Institutes of Health

Center for Scientific Review; Amended Notice of Meeting

Notice is hereby given of a change in the meeting of the Center for Scientific Review Special Emphasis Panel, October 21, 2013, 7:30 a.m. to October 21, 2013, 6:00 p.m., Hilton Long Beach and Executive Center, 701 West Ocean Boulevard, Long Beach, CA 90831 which was published in the Federal Register on October 1, 2013, 78 FR 190 Pgs. 60294-60296.

The meeting will be held at the Embassy Suites at Chevy Chase Pavilion, 4300 Military Rd. NW., Washington, DC 20015. The meeting will start on December 13, 2013 at 7:30 a.m. and end on December 13, 2013 at 6:00 p.m. The meeting is closed to the public.

Dated: October 25, 2013.
Anna Snouffer,
Deputy Director, Office of Federal Advisory Committee Policy.

[FR Doc. 2013-25776 Filed 10-29-13; 8:45 am]

BILLING CODE 4140-01-P